DEPARTMENT OF COMMERCE

National Oceanic and Atmospheric Administration

[I.D. 110102I]

Marine Mammals; File No. 821-1588

AGENCY: National Marine Fisheries Service (NMFS), National Oceanic and Atmospheric Administration (NOAA), Commerce.

ACTION: Receipt of application for amendment.

SUMMARY: Notice is hereby given that Texas A&M University, Department of Marine Biology, PO Box 1675, Galveston, Texas 77551 (Principal Investigator: Dr. Randall W. Davis) has requested an amendment to scientific research Permit No. 821-1588-01.

DATES: Written or telefaxed comments must be received on or before December 19, 2002.

ADDRESSES: The amendment request and related documents are available for review upon written request or by appointment in the following office(s):

Permits, Conservation and Education Division, Office of Protected Resources, NMFS, 1315 East-West Highway, Room 13705, Silver Spring, MD 20910; phone (301)713-2289; fax (301)713-0376;

Southeast Region, NMFS, 9721 Executive Center Drive North, St. Petersburg, FL 33702-2432; phone (727)570-5301; fax (727)570-5320; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Amy Sloan or Carrie Hubard (301)713-2289.

SUPPLEMENTARY INFORMATION: The subject amendment to Permit No. 821-1588-01 is requested under the authority of the Marine Mammal Protection Act of 1972, as amended (16 U.S.C. 1361 et seq.), and the Regulations Governing the Taking and Importing of Marine Mammals (50 CFR part 216).

Permit No. 821-1588-01 authorizes the permit holder to conduct research under three projects: (1) capture, tag, sample, release Weddell seals (Leptonychotes weddelli) on McMurdo Sound, Antarctica; (2) approach, tag, biopsy, photograph sperm whales (Physeter macrocephalus) in the Gulf of Mexico, and conduct research activities on Odontocetes that may result in Level B harassment; and (3) import/export marine mammal specimens obtained from dead animals. The permit holder requests authorization to take up to two times each, 30 adult female northern elephant seals (Mirounga angustirostris) and 10 subadult seals of either sex during each of three years by capture, restraint, sedation, attachment of instruments, placement of catheters into blood vessels, placement of subcutaneous temperature and intravenous oxygen sensors, and taking muscle biopsies. Adult females may be pregnant, although no late-term pregnant seals will be sampled. Level B harassment may occur on an additional 40 seals per year during observations to check flipper tags for identification. Up to two accidental mortalities per year are requested for this amendment. Research will occur at Ano Nuevo Point, California. The purpose of this research is to investigate the behavioral and energetic adaptations that enable elephant seals to forage at depth in the northern Pacific Ocean.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: November 14, 2002.
Eugene T. Nitta,
Acting Chief, Permits, Conservation and Education Division, Office of Protected Resources, National Marine Fisheries Service.

[FR Doc. 02-29361 Filed 11-18-02; 8:45 am]

BILLING CODE 3510-22-S